DEPARTMENT OF DEFENSE

Office of the Secretary

New Collection; Comment Request

AGENCY: Office of the Assistant Secretary of Defense for Health Affairs, DoD.

ACTION: Notice.

In accordance with section 3506(c)(2)(A) of the Paperwork Reduction Act of 1995, the Office of the Assistant Secretary of Defense (Health Affairs) announces the new collection of a public information collection and seeks public comment on the provisions thereof. Comments are invited on: (a) Whether the new collection of information is necessary for the proper performance of the functions of the agency, including whether the information shall have practical utility; (b) the accuracy of the agency's estimate of the burden of the information collection; (c) ways to enhance the quality, utility, and clarity of the information to be collected; and (d) ways to minimize the burden of the information collection on respondents, including through the use of automated collection techniques or other forms of information technology.

DATES: Consideration will be given to all comments received by September 6, 2005.

ADDRESSES: Written comments and recommendations on the information collection will be sent to Office of the Assistant Secretary of Defense (Health Affairs) TRICARE Management Activity, Contracting Office, 16401 East Centretech Parkway, Aurora Colorado 80011-9088—Attn: Mr. Bruce Mitterer or Mr. Marty Blomberg.

FOR FURTHER INFORMATION CONTACT: To request more information on this proposed information collection, please write to the above address or contact one of the following: Mr. Bruce Mitterer, TRICARE Management Activity, Contracting Officer, or Mr. Marty Blomberg, 16401 East Centretech Parkway, Aurora, Colorado 80011-9088, 1-303-676-3575.

Title; Associated Form; and OMB Number: TRIWEST/TRICARE Provider Satisfaction Survey.

Needs and Uses: The data will be used to improve the services and relationship between providers and TriWest to ensure that TriWest is delivering upon the commitment to provide “Beneficiary satifaction at the highest possible level”.

Affected Public: Individuals or household.

Annual Burden Hours: 145 hours.

Number of Respondents: 850.

Responses Per Respondent: 1.

Average Burden Per Response: .17 hours.

Frequency: Annually.

SUPPLEMENTARY INFORMATION:

Summary of Information Collection

The TriWest Healthcare Alliance is a Phoenix-based corporation that partners with the Department of Defense (DoD) to provide access to cost-effective, high quality health care for our nation's active and retired uniformed services members and their families. These individuals are eligible for the DoD's regionally managed health care program for the military, called TRICARE. TriWest is under contract with the DoD to manage and administer TRICARE throughout the 21-state TRICARE West Region.

In addition to supporting military families through the TRICARE program, TriWest has developed relationships with organizations such as the USO, Fisher House, the Women in Military Service for America Memorial Foundation and other military relief and support associations to strengthen America's military community locally and nationally.

TRICARE West includes the following states:

• Alaska

• Arizona

• California

• Colorado

• Hawaii

• Idaho

• Iowa

• Kansas

• Minnesota

• Missouri (except the St. Louis area)

• Montana

• Nebraska

• Nevada

• New Mexico

• North Dakota

• Oregon

• South Dakota

• Texas (El Paso area only)

• Utah

• Washington

• Wyoming

Dated: June 27, 2005.
Patricia Toppings,
Alternative OSD Federal Register Liaison Officer, Department of Defense.

[FR Doc. 05-13193 Filed 7-5-05; 8:45 am]

BILLING CODE 5001-06-M